DEPARTMENT OF THE INTERIOR

National Park Service

[NPS-NERO-CACO-12710; PPNECACOS0, PPMPSD1Z.YM0000]

Notice of May 13, 2013, Meeting for Cape Cod National Seashore Advisory Commission

AGENCY: National Park Service, Interior.

ACTION: Meeting Notice.

SUMMARY: This notice sets forth the date of the Two Hundred Eighty-Ninth Meeting of the Cape Cod National Seashore Advisory Commission.

DATES: The public meeting of the Cape Cod National Seashore Advisory Commission will be held on Monday, May 13, 2013 at 1:00 p.m. (Eastern).

ADDRESSES: The Commission members will meet in the meeting room at Headquarters, 99 Marconi Site Road, Wellfleet, Massachusetts 02667.

Two Hundred Eighty-Ninth Meeting of the Cape Cod National Seashore Advisory Commission

The two-hundred and eighty-ninth meeting of the Cape Cod National Seashore Advisory Commission will take place on Monday, May 13, 2013, at 1:00 p.m., in the meeting room at Headquarters, 99 Marconi Station, in Wellfleet, Massachusetts to discuss the following:

1. Adoption of Agenda

2. Approval of Minutes of Previous Meeting (March 25, 2013)

3. Reports of Officers

4. Reports of Subcommittees

Report from Herring Cove Beach Subcommittee including presentation of preferred alternative for adoption by the full Advisory Commission

Update of Pilgrim Nuclear Plant Emergency Planning Subcommittee

5. Superintendent's Report

Update on Sequestration/FY 13 budget and program offerings

Update on Dune Shacks

Improved Properties/Town Bylaws

Herring River Wetland Restoration

Wind Turbines/Cell Towers

Storm Damage

Shorebird Management Planning

Highlands Center Update

Alternate Transportation funding

Ocean stewardship topics—shoreline change

Climate Friendly Parks

6. Old Business

7. New Business

8. Date and agenda for next meeting

9. Public comment and

10. Adjournment

FOR FURTHER INFORMATION CONTACT: Further information concerning the meeting may be obtained from the Superintendent, George E. Price, Jr., Cape Cod National Seashore, 99 Marconi Site Road, Wellfleet, MA 02667, at (508) 771-2144.

SUPPLEMENTARY INFORMATION: The Commission was reestablished pursuant to Public Law 87-126 as amended by Public Law 105-280. The purpose of the Commission is to consult with the Secretary of the Interior, or his designee, with respect to matters relating to the development of Cape Cod National Seashore, and with respect to carrying out the provisions of sections 4 and 5 of the Act establishing the Seashore.

The meeting is open to the public. It is expected that 15 persons will be able to attend the meeting in addition to Commission members. Interested persons may make oral/written presentations to the Commission during the business meeting or file written statements. Such requests should be made to the park superintendent prior to the meeting. Before including your address, phone number, email address, or other personal identifying information in your comment, you should be aware that your entire comment—including your personal identifying information—may be made publicly available at any time. While you can ask us in your comment to withhold your personal identifying information from public review, we cannot guarantee that we will be able to do so.

Dated: April 12, 2013.
George E. Price, Jr.,
Superintendent, Cape Cod National Seashore.

[FR Doc. 2013-09334 Filed 4-19-13; 8:45 am]

BILLING CODE 4310-WV-P